ENVIRONMENTAL PROTECTION AGENCY

[FRL-9124-1]

Science Advisory Board Staff Office; Notification of a Clean Air Scientific Advisory Committee (CASAC) NOX & SOX Secondary NAAQS Review Panel Meeting and CASAC Teleconference

AGENCY: Environmental Protection Agency (EPA).

ACTION: Notice.

SUMMARY: The Environmental Protection Agency (EPA) Science Advisory Board (SAB) Staff Office announces a public meeting of the Clean Air Scientific Advisory Committee NOX and SOX Secondary National Ambient Air Quality Standards (NAAQS) Review Panel (CASAC Panel) to peer review EPA's Policy Assessment for the Review of the Secondary National Ambient Air Quality Standards for NOx and SOx: First External Review Draft (March 2010). The chartered CASAC will subsequently hold a public teleconference to review and approve the Panel's report.

DATES: The Panel meeting will be held Thursday, April 1, 2010 from 8:30 a.m. to 5 p.m. and Friday, April, 2, 2010 from 8:30 a.m. to 2 p.m. (Eastern Time). The chartered CASAC will meet by public teleconference from 10 a.m. to 1 p.m. on Monday, May 3, 2010 (Eastern Time).

ADDRESSES: The April 1 and 2, 2010 public meeting will take place at the Marriott at Research Triangle Park, 4700 Guardian Drive, Durham, NC 27703, telephone (919) 941-6200. The May 3, 2010 public teleconference will be conducted by telephone only.

FOR FURTHER INFORMATION CONTACT: Any member of the public who wishes to submit a written or brief oral statement or wants further information concerning the April 1 and 2, 2010 meeting may contact Ms. Kyndall Barry, Designated Federal Officer (DFO), EPA Science Advisory Board (1400F), U.S. Environmental Protection Agency, 1200 Pennsylvania Avenue, NW., Washington, DC 20460; via telephone/voice mail (202) 343-9868; fax (202) 233-0643; or e-mail at barry.kyndall@epa.gov. For information on the CASAC teleconference on May 3, 2010, please contact Dr. Holly Stallworth, Designated Federal Officer (DFO), at the above listed address; via telephone/voice mail (202) 343-9867 or e-mail at stallworth.holly@epa.gov. General information concerning the CASAC and the CASAC documents can be found on the EPA Web site at http://www.epa.gov/casac.

SUPPLEMENTARY INFORMATION: Background: Pursuant to the Federal Advisory Committee Act (FACA), Public Law 92-463 5 U.S.C., App. 2, notice is hereby given that the CASAC NOX & SOX Secondary NAAQS Review Panel will hold a public meeting to provide advice on the policy implications of welfare standards for NOX and SOX and the chartered CASAC will hold a public teleconference to review and approve the Panel's draft report. The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Panel and chartered CASAC will comply with the provisions of FACA and all appropriate SAB Staff Office procedural policies.

Section 109(d)(1) of the CAA requires that the Agency periodically review and revise, as appropriate, the air quality criteria and the NAAQS for the six “criteria” air pollutants, including NOX and SOX. EPA is in the process of reviewing the secondary NAAQS for NOX and SOx. Welfare effects as defined in the CAA include, but are not limited to, effects on soils, water, wildlife, vegetation, visibility, weather, and climate, as well as effects on materials, economic values, and personal comfort and well-being.

The purpose of the April 1 and 2, 2010 meeting is to review EPA's Policy Assessment for the Review of the Secondary National Ambient Air Quality Standards for NOX and SOX: First External Review Draft (March 2010). The Policy Assessment will serve to “bridge the gap” between the scientific information and the judgments required of the Administrator in determining whether it is appropriate to retain or revise the standards. The first draft Policy Assessment builds upon the key scientific and technical information contained in the Agency's Integrated Science Assessment for Oxides of Nitrogen and Sulfur—Ecological Criteria (EPA/600/R-08/082F) finalized December 2008 as well as the assessment document titled Risk and Exposure Assessment for Review of the Secondary National Ambient Air Quality Standards for Oxides of Nitrogen and Oxides of Sulfur-Main Content—Final Report (September 2009). The Panel's deliberations on the first draft Policy Assessment will take place during the public meeting scheduled for April 1 and 2, 2010.

CASAC previously provided consultative advice on EPA's Draft Plan for Review of the Secondary National Ambient Air Quality Standards for Nitrogen Dioxide and Sulfur Dioxide during a public teleconference on October 30, 2007 (announced in 72 FR 57568-57569). On April 2 and 3, 2008, the Panel reviewed the Integrated Science Assessment fox Oxides of Nitrogen and Sulfur—Environmental Criteria: First External Review Draft (December 2007), and provided consultative advice on EPA's Scope and Methods Plan for Risk/Exposure Assessment (March 2008). The April 2 and 3, 2008 meeting was announced in 73 FR 10243-10244). The Panel reviewed the Integrated Science Assessment fox Oxides of Nitrogen and Sulfur—Environmental Criteria: Second External Review Draft (August 2008) and EPA's Risk and Exposure Assessment for Review of the Secondary National Ambient Air Quality Standards for Oxides of Nitrogen and Oxides of Sulfur: First Draft (August 2008) as announced in 73 FR 53242-54243 on October 1 and 2, 2008. The Panel reviewed Risk and Exposure Assessment for Review of the Secondary National Ambient Air Quality Standards for Oxides of Nitrogen and Oxides of Sulfur: Second Draft (June 2009) as announced in 74 FR 29693-29694 on July 22 and 23, 2009. The CASAC advisory reports are available on the EPA Web site at http://www.epa.gov/casac.

Technical Contacts: Any questions concerning EPA's Policy Assessment for the Review of the Secondary National Ambient Air Quality Standards for NOX and SOX: First External Review Draft (March 2010) should be directed to Dr. Byran Hubbell, OAR, at 919-541-0621 or hubbell.bryan@epa.gov.

Availability of Meeting Materials: EPA-OAR's Policy Assessment for the Review of the Secondary National Ambient Air Quality Standards for NOX and SOX: First External Review Draft (March 2010) can be accessed at http://www.epa.gov/ttn/naaqs/standards/no2so2sec/index.html. The agenda and other materials for the CASAC meetings will be posted on the SAB Web site at http://www.epa.gov/casac.

Procedures for Providing Public Input: Interested members of the public may submit relevant written or oral information for consideration on the topics included in this advisory activity. Oral Statements: To be placed on the public speaker list for the April 1 and 2, 2010 meeting, interested parties should notify Ms. Kyndall Barry, DFO, by e-mail no later than March 26, 2010. To be placed on the public speaker list for the May 3, 2010 teleconference, interested parties should notify Dr. Holly Stallworth, DFO, by e-mail no later than April 23, 2010. Individuals making oral statements will be limited to five minutes per speaker. Written Statements: Written statements for the April 1 and 2, 2010 meeting should be received in the SAB Staff Office by March 26, 2010, so that the information may be made available to the CASAC Panel for its consideration prior to this meeting. Written statements for the May 3, 2010 teleconference should be received in the SAB Staff Office by April 23, 2010. Written statements should be supplied to the appropriate DFO in the following formats: One hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Ms. Barry at the phone number or e-mail address noted above, preferably at least ten days prior to the meeting, to give EPA as much time as possible to process your request.

Dated: March 1, 2010.
Anthony F. Maciorowski,
Deputy Director, EPA Science Advisory Board Staff Office.

[FR Doc. 2010-4818 Filed 3-5-10; 8:45 am]

BILLING CODE 6560-50-P